DEPARTMENT OF COMMERCE

International Trade Administration

[A-588-850]

Certain Large Diameter Carbon and Alloy Seamless Standard, Line and Pressure Pipe From Japan: Final Results of the Expedited Sunset Review of the Antidumping Duty Order

AGENCY: Enforcement and Compliance, International Trade Administration, Department of Commerce.

SUMMARY: As a result of this expedited sunset review, the U.S. Department of Commerce (Commerce) finds that revocation of the antidumping duty (AD) order on certain large diameter carbon and alloy seamless standard, line and pressure pipe (large diameter pipe) from Japan would be likely to lead to continuation or recurrence of dumping as indicated in the “Final Results of Sunset Review” section of this notice.

DATES: Applicable December 29, 2022.

FOR FURTHER INFORMATION CONTACT: Konrad Ptaszynski, AD/CVD Operations, Office I, Enforcement and Compliance, International Trade Administration, U.S. Department of Commerce, 1401 Constitution Avenue NW, Washington, DC 20230; telephone: (202) 482-6187.

SUPPLEMENTARY INFORMATION:

Background

On October 3, 2022, Commerce published the notice of initiation of the sunset review of the AD order on large diameter pipe from Japan, pursuant to section 751(c) of the Tariff Act of 1930, as amended (the Act).¹ In accordance with 19 CFR 351.218(d)(1)(i) and (ii), Commerce received a notice of intent to participate in this sunset review from Vallourec Star, L.P. and United States Steel Corporation (collectively, the domestic interested parties) within 15 days after the date of publication of the Initiation Notice.² The domestic interested parties claimed interested party status under section 771(9)(C) of the Act.

¹ See Initiation of Five-Year (Sunset) Reviews, 87 FR 59779 (October 3, 2022) (Initiation Notice).

² See Domestic Interested Parties' Letter, “Notice of Intent to Participate in the Fourth Five-Year Review of the Antidumping Duty Order on Carbon and Alloy Seamless Standard, Line and Pressure Pipe (Over 4 ½ Inches) from Japan,” dated October 17, 2022.

Commerce received adequate substantive responses to the Initiation Notice from the domestic interested parties within the 30-day period specified in 19 CFR 351.218(d)(3)(i).³ Commerce received no substantive responses from any respondent interested parties. In accordance with section 751(c)(3)(B) of the Act and 19 CFR 351.218(e)(1)(ii)(C)(2), Commerce conducted expedited, i.e., 120-day, sunset review of the Order.

³ See Domestic Interested Parties' Letter, “Substantive Response to Notice of Initiation,” dated November 2, 2022.

Scope of the Order

The products covered by this order are large diameter seamless carbon and alloy (other than stainless) steel standard, line, and pressure pipes. A full description of the scope of the Order is contained in the Issues and Decision Memorandum.⁴

⁴ See Memorandum, “Issues and Decision Memorandum for the Expedited Sunset Review of the Antidumping Duty Order on Certain Large Diameter Carbon and Alloy Seamless Standard, Line and Pressure Pipe from Japan,” dated concurrently with, and hereby adopted by, this notice (Issues and Decision Memorandum).

Analysis of Comments Received

All issues raised in this review are addressed in the Issues and Decision Memorandum. A list of the issues discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNotices/ListLayout.aspx.

Final Results of Sunset Review

Pursuant to sections 751(c) and 752(c) of the Act, Commerce determines that revocation of the Order would be likely to lead to continuation or recurrence of dumping and that the magnitude of the margin of dumping likely to prevail would be at a rate up to 107.80 percent.

Administrative Protective Order

This notice serves as a reminder to parties subject to an administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: December 22, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Expedited Sunset Review

VIII. Recommendation

[FR Doc. 2022-28387 Filed 12-28-22; 8:45 am]

BILLING CODE 3510-DS-P